DEPARTMENT OF DEFENSE

Office of the Secretary

[Docket ID: DoD-2023-HA-0111; Req No. OS-2024-00038-FR]

Proposed Collection; Comment Request

AGENCY: Office of the Assistant Secretary of Defense for Health Affairs (OASD(HA)), Department of Defense (DoD).

ACTION: 60-day information collection notice.

SUMMARY: In compliance with the Paperwork Reduction Act of 1995, Defense Health Agency (DHA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 16, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: Health Care Survey of DoD Beneficiaries; OMB Control Number: 0720-HCSD.

Needs and Uses: Legal authority for this information collection is found in the 1993 National Defense Authorization Act (NDAA) (Pub. L. 102-484). The Health Care Survey of DoD Beneficiaries (HCSDB) is the only population-based Consumer Assessment of Healthcare Providers and Systems (CAHPS) Health Plan Survey (v5.0) administered to a statistically representative, world-wide sample of all eligible DoD beneficiaries by the DHA. The instrument includes an additional module that is the only population-based measurement of Healthy People 2030 goals and health metrics reflecting the priorities of senior health leaders. The HCSDB is a population-based survey, not a healthcare encounter-based survey. As such, the HCSDB is the only survey able to measure access to care and other metrics for beneficiaries who may not be using the TRICARE health system due to barriers to care they encounter. This information collection, which began in 2008, continues to be of critical importance to DHA and Congress in assessing Military Health System (MHS) and Managed Care Support Contractor performance by allowing for trending by various beneficiary categories over time.

Affected Public: Individuals or households.

Annual Burden Hours: 7,125.

Number of Respondents: 28,500

Responses per Respondent: 1.

Annual Responses: 28,500.

Average Burden per Response: 15 minutes.

Frequency: On occasion.

Dated: November 7, 2023.
Aaron T. Siegel,
Alternate OSD Federal Register Liaison Officer, Department of Defense.

[FR Doc. 2023-25118 Filed 11-14-23; 8:45 am]

BILLING CODE 6001-FR-P